DEPARTMENT OF JUSTICE

Antitrust Division

Notice Pursuant to the National Cooperative Research and Production Act of 1993—DVD Copy Control Association

Notice is hereby given that, on March 16, 2006, pursuant to Section 6(a) of the National Cooperative Research and Production Act of 1993, 15 U.S.C. 301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, ASUSTek Computer Inc., Taipei, Taiwan; DongGuan Evervictory Electronic Co., Ltd., DongGuan City, People's Republic of China; Duplium Corporation, Thornhill, Ontario, Canada; Exatel Visual Systems Ltd., Rehovot, Israel; General Motors Corporation, Detroit, MI; Gowell Electronic Limited, Guang Dong, People's Republic of China; Hon Hai Precision Industry, Co., Ltd., Taipei Hsien, Taiwan; Horizon Semiconductors Ltd., Herzliya, Israel; Metta Technology, San Jose, CA; Netflix Inc., Los Gatos, CA; Replimaster LTD Corporation, Moscow, Russia; Shenzhen MTC Multimedia Co., Ltd., Shenzhen, People's Republic of China; Sichuan Changhong Electric Co., Ltd., Sichuan, People's Republic of China; Unicorn Information System Co., Ltd., Seoul, Republic of Korea; X-Protect Technology GmbH, Bochum, Germany; and Zhongshan Worthy Electronics Industry Co., Ltd., Guangdong, People's Republic of China have been added as parties to this venture.

Also, ALi Corporation, Taipei, Taiwan; Bontec Co., Ltd., Seoul, Republic of Korea; Enlight Corporation, Taipei Hsien, Taiwan; Genesis Microchip Inc., Alviso, CA; and Mitac International Corp., Hsinchu, Taiwan have withdrawn as parties to this venture. In addition, Sea Star Industry Co., Ltd. has changed its name to ShenZhen Sea Star Technology Co., Ltd., Shenzhen, People's Republic of China.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on December 16, 2005. A notice was published in the Federal Register pursuant to Section 6(b) of the Act on January 18, 2006 (71 FR 2960).

Dorothy B. Fountain,
Deputy Director of Operations, Antitrust Division.

[FR Doc. 06-3493 Filed 4-11-06; 8:45 am]

BILLING CODE 4410-11-M